DEPARTMENT OF ENERGY

West Valley Demonstration Project Final Waste Management Environmental Impact Statement

AGENCY: Department of Energy.

ACTION: Notice of Availability.

SUMMARY: The Department of Energy (DOE) announces the availability of the West Valley Demonstration Project (WVDP) Final Waste Management Environmental Impact Statement (EIS), Cattaraugus County, West Valley, New York (DOE/EIS—0337F). DOE has prepared this Final EIS pursuant to the National Environmental Policy Act (NEPA) and applicable NEPA regulations issued by the Council on Environmental Quality (40 Code of Federal Regulations (CFR) Parts 1500-1508) and by DOE (10 CFR part 1021). DOE proposes to ship radioactive wastes that are either currently in storage on the WVDP site or that will be generated from WVDP operations over the next ten years, to offsite disposal locations. The Final EIS evaluates the potential environmental impacts of the proposed action, including impacts to workers and the public from waste transportation. The Final EIS also analyzes a No Action Alternative, under which most wastes would continue to be stored over the next ten years, and an alternative under which certain wastes would be shipped to interim offsite storage locations prior to disposal.

ADDRESSES: Requests for copies of the Final EIS or requests for information about this document should be directed to: Mr. Daniel W. Sullivan, EIS Document Manager, DOE West Valley Area Office, 10282 Rock Springs Road, WV-49, West Valley, NY 14171-9799, Telephone: (800) 633-5280 or (716) 942-2152.

Copies of the Final EIS have been distributed to Federal, State, and local officials; Members of Congress; agencies; organizations; and individuals who may be interested or affected. The Final EIS will be available at http://tis.eh.doe.gov/nepa/docs.docs.htm or www.wv.doe.gov. Copies of the Final EIS and supporting technical reports also are available for public inspection at the following locations:

Hulbert Library of the Town of Concord, 18 Chapel Street, Springville, NY 14141.

Central Library of the Buffalo, and Erie County Public Library System, Science and Technology Department, Lafayette Square, Buffalo, NY 14203.

West Valley Central School Library, 5359 School Street, West Valley, NY 14171.

The Olean Public Library, 134 North 2nd Street, Olean, NY 14760.

FOR FURTHER INFORMATION CONTACT: For additional information on this EIS, contact Mr. Daniel Sullivan at the address provided above. For general information on the DOE NEPA process, please contact: Ms. Carol Borgstrom, Director, Office of NEPA Policy and Compliance (EH-42), U.S. Department of Energy, 1000 Independence Avenue, SW., Washington, DC 20585. Ms. Borgstrom may be contacted by calling (202) 586-4600 or by leaving a message at (800) 472-2756.

SUPPLEMENTARY INFORMATION: The WVDP is located on the Western New York Nuclear Service Center (also referred to as the Center). The Center comprises approximately 13.5 square kilometers (five square miles) in West Valley, New York, and is located in the Town of Ashford, approximately 50 kilometers (30 miles) southeast of Buffalo, New York. The Center was the site of a commercial nuclear fuel reprocessing plant, which was the only one to have operated in the United States. The Center operated under a license issued by the Atomic Energy Commission (now the U.S. Nuclear Regulatory Commission [NRC]) in 1966 to Nuclear Fuel Services, Incorporated, and the New York State Atomic and Space Development Authority, now known as the New York State Energy Research and Development Authority (NYSERDA).

During reprocessing, spent nuclear fuel from commercial nuclear power plants and DOE sites was chopped, dissolved, and processed by a solvent extraction system to recover uranium and plutonium. Fuel reprocessing ended in 1972 when the plant was shut down for modifications to increase its capacity, reduce occupational radiation exposure, and reduce radioactive effluents.

In 1976, Nuclear Fuel Services estimated that over $600 million would be required to modify the facility to increase its capacity and to comply with changes in regulatory standards. As a result, the company decided to withdraw from the nuclear fuel reprocessing business and exercise its contractual right to yield responsibility for the Center to NYSERDA. Nuclear Fuel Services withdrew from the Center without removing any of the in-process nuclear wastes. NYSERDA now holds title to and manages the Center on behalf of the people of the State of New York.

In 1980, Congress passed the WVDP Act (Pub. L 96-368). This Act requires DOE to demonstrate that the liquid high-level radioactive waste (HLW) from reprocessing can be safely managed by solidifying it at the Center and transporting it to a geologic repository for permanent disposal. In addition to HLW, the WVDP also manages low-level radioactive waste (LLW), transuranic (TRU) waste, and mixed waste (radioactive and hazardous) generated as a result of Project activities.

The WVDP Facilities and areas storing the waste are: The Process Building, which includes approximately 70 rooms and cells that comprised the NRC-licensed spent nuclear fuel reprocessing operations (one of the cells—the Chemical Process Cell—now serves as the storage facility for the canisters containing the HLW, which has been immobilized through vitrification); the Tank Farm, which includes the underground HLW storage tanks; Waste Storage Areas, which include several facilities such as Lag Storage Areas and the Chemical Process Cell Waste Storage Area; and the Radwaste Treatment System Drum Cell (Drum Cell), which stores cement-filled drums of stabilized LLW.

DOE announced its intent to prepare this EIS in a March 2001 Notice of Intent (NOI) (66 FR 16447, March 26, 2001). DOE modified the proposed scope of this EIS as a result of public comments received during scoping and the Department's further evaluation of activities that might be required independently of final decisions on decommissioning and/or long-term stewardship at the WVDP. In the future, DOE plans to issue an EIS on decommissioning and/or long-term stewardship. DOE published an Advance NOI (66 FR 56090, November 6, 2001) inviting preliminary public comment on a proposed scope for the decommissioning and/or long-term stewardship EIS and published an NOI (68 FR 12004, March 13, 2003).

Public Comments

The Waste Management EIS was issued in draft on May 16, 2003, for public review and comment (68 FR 26587 (2003)). The 45-day comment period ended on June 30, 2003, although DOE also considered comments received after that date. Two public hearings on the Draft EIS were held on June 11, 2003, at the Ashford Office Complex near the WVDP site. The Final EIS incorporates public comments received on the Draft EIS and DOE responses.

In response to public comments, several changes were made in the Final EIS. In particular, the option under Alternative B of placing retrievable grout in the HLW tanks as an interim stabilization measure has been eliminated. Information has been added regarding the extent to which the Canadian population within 80 kilometers (50 miles) of the site could be affected by the activities at the site and transportation under routine and accident conditions. In addition, a number of specific technical changes and corrections have been made in response to public comments, and updated DOE guidance regarding health risk factors was used to estimate potential impacts.

Description of Alternatives

The Final EIS analyzes three alternatives for the continued onsite waste management and shipment of wastes to offsite disposal. Under the No Action Alternative, Continuation of Ongoing Waste Management Activities, waste management would include continued storage of existing Class B and Class C LLW, TRU waste, and HLW. Limited amounts of Class A LLW would be shipped for off-site disposal and the remainder would be stored onsite. The waste storage tanks and their surrounding vaults would continue to be ventilated to manage moisture levels as a corrosion prevention measure.

Under DOE's Preferred Alternative A, Offsite Shipment of HLW, LLW, Mixed LLW, and TRU Wastes to Disposal, DOE would ship Class A, B, and C LLW and mixed LLW to one of two potential DOE disposal sites (in Washington or Nevada) or to a commercial disposal site (such as the Envirocare facility in Utah); ship TRU waste to the Waste Isolation Pilot Plant (WIPP) in New Mexico; and ship HLW to the proposed Yucca Mountain HLW Repository. LLW and mixed LLW would be shipped over the next ten years. TRU waste shipments to the WIPP could occur within the next ten years if the TRU waste were determined to meet all the requirements for disposal in this repository. If some or all of WVDP's TRU waste did not meet these requirements, the Department would need to explore other alternatives for disposal of this waste. The waste storage tanks would continue to be managed as described under the No Action Alternative.

Under Alternative B, Offsite Shipment of LLW and Mixed LLW to Disposal, and Shipment of HLW and TRU Waste to Interim Storage, LLW and mixed LLW would be shipped offsite for disposal at the same locations as Alternative A. TRU wastes would be shipped for interim storage at one of five DOE sites: the Hanford Site in Washington; the Idaho National Engineering and Environmental Laboratory (INEEL); the Oak Ridge National Laboratory (ORNL) in Tennessee; the Savannah River Site (SRS) in South Carolina; or WIPP. TRU wastes would subsequently be shipped to WIPP for disposal or interim storage at WIPP until disposal could be arranged. HLW would be shipped to SRS or Hanford for interim storage, with subsequent shipment to Yucca Mountain for disposal. The waste storage tanks would continue to be managed as described under the No Action Alternative.

In addition, DOE considered, but did not analyze, an alternative to construct and maintain waste storage facilities for indefinite storage of waste at the WVDP. DOE presently does not consider that alternative to be practical or reasonable over time, because of continuing costs of construction of new facilities and maintenance of existing facilities.

Record of Decision (ROD)

DOE intends to issue a ROD no sooner than 30 days following publication in the Federal Register of the Environmental Protection Agency's Notice of Availability of the WVDP Final EIS. DOE will publish its ROD in the Federal Register.

Issued in Washington, DC, on January 12, 2004.
Jessie Hill Roberson,
Assistant Secretary for Environmental Management.

[FR Doc. 04-988 Filed 1-15-04; 8:45 am]

BILLING CODE 6450-01-P